DEPARTMENT OF DEFENSE

Office of the Secretary

[Docket No. DOD-2010-OS-0090]

Submission for OMB Review; Comment Request

AGENCY: DoD.

ACTION: Notice.

SUMMARY: The Department of Defense has submitted to OMB for clearance, the following proposal for collection of information under the provisions of the Paperwork Reduction Act (44 U.S.C. Chapter 35).

DATES: Consideration will be given to all comments received by January 26, 2011.

Title and OMB Number: Customer Satisfaction Surveys—Generic Clearance; OMB Number 0730-0003.

Type of Request: Extension.

Number of Respondents: 230,000.

Responses per Respondent: 1.

Annual Responses: 230,000.

Average Burden per Response: 2 minutes.

Annual Burden Hours: 8,000 hours.

Needs and Uses: The information collection requirement is necessary to determine the kind and quality of services DFAS customers want and expect, as well as their satisfaction with DFAS' existing services.

Affected Public: Individuals or Households, Businesses or other For-profit, Not-for-profit institutions, Federal Government, and State, Local or Tribal Governments.

Frequency: On occasion.

Respondent's Obligation: Voluntary.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings.

Written requests for copies of the information collection proposal should be sent to Ms. Toppings at WHS/ESD/Information Management Division, 1777 North Kent Street, RPN, Suite 11000, Arlington, VA 22209-2133.

Dated: November 30, 2010.
Morgan F. Park,
Alternate OSD Federal Register Liaison Officer, Department of Defense.

[FR Doc. 2010-32395 Filed 12-23-10; 8:45 am]

BILLING CODE 5001-06-P